DEPARTMENT OF AGRICULTURE

Natural Resources Conservation Service

[Docket No. NRCS-2019-0001]

Notice of Intent To Prepare an Environmental Impact Statement for the Willow Creek Watershed, Glacier County, Montana, on the Blackfeet Indian Reservation

AGENCY: Natural Resources Conservation Service (NRCS), USDA.

ACTION: Notice of intent to prepare an Environmental Impact Statement (EIS).

SUMMARY: The NRCS Montana State Office gives notice that an EIS is being prepared for the Willow Creek Watershed Project in the proximity of Browning, Montana on the Blackfeet Indian Reservation. This notice announces our intent to prepare an EIS, provide information on the nature of the proposed action and possible alternatives, invite public participation in the EIS process, and identify cooperating agency contacts. The EIS process will evaluate alternatives recommended for detailed study because of previous planning-level studies completed by NRCS and additional (new) alternatives identified during scoping.

DATES: We will consider comments that we receive by April 22, 2019. Comments received after this date will be considered to the extent possible.

ADDRESSES: We invite you to submit comments on this NOI. In your comments, include the volume, date, and page number of this issue of the Federal Register. You may submit comments by any of the following methods:

• Federal eRulemaking Portal: Go to http://www.regulations.gov and search for docket ID NRCS-2019-0001. Follow the online instructions for submitting comments.

• Mail, Hand Delivery, Fax, or Courier: Amy Darlinton P.E., Northern Engineering & Consulting, Inc., 200 N 34th Street, Billings, MT 59101, email: amy.darlinton@neciusa.com, fax: (406) 206-5248 or telephone: (406) 206-5248.

All written comments will be publicly available on www.regulations.gov.

FOR FURTHER INFORMATION CONTACT: Tom Watson, State Conservationist, NRCS, 10 E Babcock, Suite 443, Bozeman, MT 59715, telephone (406) 587-6811 or email tom.watson@mt.usda.gov.

SUPPLEMENTARY INFORMATION: The NRCS Montana State Office gives notice that an EIS is being prepared for the Willow Creek Watershed Project in the proximity of Browning, Montana on the Blackfeet Indian Reservation. The EIS process will evaluate alternatives recommended for detailed study because of previous planning-level studies completed by NRCS and additional (new) alternatives identified during scoping. Preparing an EIS, providing information on the nature of the proposed action and possible alternatives, inviting public participation in the EIS process, and identifying cooperating agency contacts is being done as required by section 102(2)(C) of the National Environmental Policy Act (NEPA) of 1969; the Council on Environmental Quality Guidelines (40 CFR part 1500); and the Natural Resources Conservation Service (NRCS) regulations that implement NEPA in 7 CFR part 650. The initial agency scoping of this federally assisted action indicates that the project may cause significant local, regional, or national impacts on the environment. Tom Watson, State Conservationist, has determined that the preparation and review of an EIS is needed for this project.

The objective of the EIS is to formulate and evaluate alternatives to prevent or reduce Willow Creek floodwater damage through Browning, Montana. A draft EIS will be prepared and circulated for review by agencies and the public. NRCS invites participation and consultation of agencies and individuals that have special expertise, legal jurisdiction, or interest in the preparation of the draft environmental impact statement.

Written comments on the scope of the draft EIS, including the project's need and purpose, the alternatives to be considered, types of issues that should be addressed, associated research that should be considered, and the methodologies to be used in impact evaluations should be sent to Northern Engineering & Consulting, Inc. (NECI), (see ADDRESSES section above for contact information).

Two scoping meetings were held to present the project and develop the scope of the draft EIS on Wednesday, January 24, 2019, at 629 All Chiefs Road, Browning Montana Blackfeet Tribal Council Chambers, Browning, Montana 59417. Comments received, including the names and addresses of those who comment, are part of the public record.

Scoping meeting presentation materials are available on the Northern Engineering & Consulting, Inc., website at http://www.neciusa.com/.

Representatives of Blackfeet Tribal governments and Federal, State, regional and local agencies that may have an interest in any aspect of the project were invited to be cooperating agencies.

Background

Historically, when a Willow Creek Flood Control Project Plan-EIS was completed for Browning in 1975, it was signed by NRCS and the following project sponsors: City of Browning, Blackfeet Tribal Council, and Glacier County Conservation District.

Over the last 43 years, residential and municipal developments have encroached on Flat Iron Creek and the planned footprint of the upper floodwater diversion. As a result, the Plan-EIS (1975) is no longer feasible. The following documents are available for review from Amy Darlinton (see ADDRESSES section above for contact information):

• Original analyses of engineering alternatives,

• 80% design of selected alternative,

• Preliminary and final watershed project plans, and

• EIS.

Federal Assistance Programs

The title and number of the Federal assistance programs, as found in the Catalog of Federal Domestic Assistance, to which this NOFA applies is:

10.904 Watershed Protection and Flood.

Tom Watson,
Montana State Conservationist, Natural Resources Conservation Service.

[FR Doc. 2019-05322 Filed 3-20-19; 8:45 am]

BILLING CODE 3410-16-P